DEPARTMENT OF DEFENSE

Office of the Secretary

[Docket ID: DoD-2014-OS-0040]

Privacy Act of 1974; System of Records

AGENCY: Office of the Secretary of Defense, DoD.

ACTION: Notice to alter a System of Records.

SUMMARY: The Defense Finance and Accounting Service proposes to alter a system of records, T7207, entitled “General Accounting and Finance System—Defense Travel Records (GAFS-DTS)” in its inventory of record systems subject to the Privacy Act of 1974, as amended. This system will enable DFAS, the Air Force, Defense Security Service, and National Geospatial-Intelligence Agency to produce transaction-driven financial statements in support of Defense Finance and Accounting Service financial mission.

DATES: Comments will be accepted on or before April 24, 2014. This proposed action will be effective the day following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory L. Outlaw, Defense Finance and Accounting Service, Freedom of Information/Privacy Act Program Manager, Corporate Communications, DFAS-HKC/IN, 8899 E. 56th Street, Indianapolis, IN 46249-0150 or at (317) 212-4591.

SUPPLEMENTARY INFORMATION: The Defense Finance and Accounting Service notices for systems of records subject to the Privacy Act of 1974 (5 U.S.C. 552a), as amended, have been published in the Federal Register and are available from the address in FOR FURTHER INFORMATION CONTACT or from the Defense Privacy and Civil Liberties Office Web site at http://dpclo.defense.gov/.

The proposed system report, as required by 5 U.S.C. 552a(r) of the Privacy Act of 1974, as amended, was submitted on June 21, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 20, 2014.
Aaron Siegel,
Alternate OSD Federal Register Liaison Officer, Department of Defense.

T-7207

System name:

General Accounting and Finance System—Defense Travel Records (December 2, 2008, 73 FR 73246)

Changes:

System ID:

Delete entry and replace with “T7207.”

System name:

Delete entry and replace with “General Accounting and Finance System—Defense Travel Records (GAFS-DTS).”

System location:

Delete entry and replace with “Defense Information Systems Agency, Defense Enterprise Computing Center, 7879 Wardleigh Road, Hill Air Force Base, Ogden, UT 84056-5997.”

Categories of individuals covered by the system:

Delete entry and replace with “Defense Finance and Accounting Service civilian employees, United States Air Force (active duty, reserve, and guard members), Department of Defense civilian employees for the Defense Security Service, and the National Geospatial-Intelligence Agency.”

* * * * *

Authority for maintenance of the system:

Delete entry and replace with “5 U.S.C. 301, Departmental Regulations; DoD Directive 5118.5, Department of Defense Financial Management Regulation (DoDFMR) 7000.14-R Vol. 4, Defense Finance and Accounting Service; 31 U.S.C. Sections 3512, Executive agency accounting and other financial management reports and plans and 3513, Financial reporting and accounting system; and E.O. 9397 (SSN), as amended.”

Purpose(s):

Delete entry and replace with “The system will enable the Defense Finance and Accounting Service, United States Air Force, Defense Security Service, and the National Geospatial-Intelligence Agency (NGA) to produce transaction-driven financial statements in support of Defense Finance and Accounting Service financial mission.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

To the United States Department of the Treasury to report the financial status of the General and Working Capital funds.

To the Government Accountability Office (GAO) for audit purposes.

The DoD Blanket Routine Uses published at the beginning of the DFAS compilation of systems of records notices may apply to this system.”

Policies and practices for storing, retrieving, accessing, retaining, and disposing of records in the system:

* * * * *

Safeguards:

Delete entry and replace with “Access to records is limited to individuals who are properly screened and cleared on a need-to-know basis in the performance of their duties. Passwords and user identifications (CAC and PKI) are used to control access to the system data, and procedures are in place to deter browsing and unauthorized access. Physical and electronic access are limited to persons responsible for servicing and authorized to use the system.”

Retention and disposal:

Delete entry and replace with “Records are cut off at the end of the fiscal year, and destroyed in 6 years and 3 months after cutoff. Records are destroyed by degaussing.”

System manager(s) and address:

Delete entry and replace with “Defense Finance and Accounting Service-Columbus, I&T, System Manager, Cash, General Funds and Miscellaneous Division, 3990 E Broad Street, Columbus, OH 43213-1152.”

Notification procedure:

Delete entry and replace with “Individuals seeking to determine whether information about themselves is contained in this record system should address written inquiries to the Defense Finance and Accounting Service, Freedom of Information/Privacy Act Program Manager, Corporate Communications, DFAS-ZCF/IN, 8899 E. 56th Street, Indianapolis, IN 46249-0150.

Requests should contain individual's full name, SSN for verification, current address, and provide a reasonable description of what they are seeking.”

Record access procedures:

Delete entry and replace with “Individuals seeking access to information about themselves contained in this record system should address written inquiries to Defense Finance and Accounting Service, Freedom of Information/Privacy Act Program Manager, Corporate Communications, DFAS-ZCF/IN, 8899 E. 56th Street, Indianapolis, IN 46249-0150.

Request should contain individual's full name, SSN for verification, current address, and telephone number.”

Contesting record procedures:

Delete entry and replace with “The Defense Finance and Accounting Service (DFAS) rules for accessing records, for contesting contents and appealing initial agency determinations are published in Defense Finance and Accounting Service Regulation 5400.11-R, 32 CFR 324; or may be obtained from the Defense Finance and Accounting Service, Freedom of Information/Privacy Act Program Manager, Corporate Communications, DFAS-ZCF/IN, 8899 E. 56th Street, Indianapolis, IN 46249-0150.”

Record source categories:

Delete entry and replace with “Defense Travel System (DTS).”

* * * * *

[FR Doc. 2014-06479 Filed 3-24-14; 8:45 am]

BILLING CODE 5001-06-P